SMALL BUSINESS ADMINISTRATION

National Advisory Council Public Meeting

The U.S. Small Business Administration, Office of the National Advisory Council will be hosting a public meeting via conference call to discuss such matters that may be presented by members, staff of the U.S. Small Business Administration, or interested others. The conference call will take place on Monday, November 21, 2005, at 3 p.m. eastern standard time. The call in number is 1-866-740-1260. To join, enter access code 3711001 at the prompt.

Additionally, we will be using http://www.readytalk.com to offer a PowerPoint presentation. After logging onto the Web page, the access code is the same 3711001. Please log-in 5 minutes prior to the conference.

Anyone wishing to participate or make an oral presentation to the Board must contact Balbina Caldwell, Director, National Advisory Council, no later than Friday, November 18, 2005, via e-mail: balbina.caldwell@sba.gov; or phone: (202) 205-6914.

Matthew K. Becker,
Committee Management Officer.

[FR Doc. 05-21599 Filed 10-28-05; 8:45 am]

BILLING CODE 8025-01-P